DEPARTMENT OF LABOR

Employment and Training Administration

[TA-W-54,674, TA-W-54,674A, TA-W-54,674B, TA-W-54,674C, and TA-W-54,674D]

Major League, Inc., Mount Airy, NC; Major League, Inc., Jasper, GA; Major League, Inc., McAllen, TX; Major League, Inc., San Antonio, TX; Major League, Inc., Martinsville, VA; Notice of Revised Determination on Reconsideration

On September 9, 2004, the Department issued an Affirmative Determination Regarding Application on Reconsideration applicable to workers and former workers of the subject firm. The Notice of the determination was published in the Federal Register on September 22, 2004 (69 FR 56788).

The request for reconsideration, filed on August 3, 2004, supplemented a previous request for administrative reconsideration which was dismissed on July 21, 2004 (69 FR 47182) on the ground that the original application did not contain any new substantial information that would bear importantly on the Department's determination denying certification because Major League did not have a “significant number or proportion” of workers at its Mount Airy location who were separated or threatened with separation to meet the requirement of section 222(a)(1) of the Trade Act of 1974, as amended. Significantly, the reconsideration request dated August 3, 2004 contended that the petition was filed by Major League on behalf of all of its workers of “Major League/Activewear's apparel division,” and was not limited to the sole worker for Major League who was located in Mount Airy, North Carolina.

The investigation of the August 3, 2004 request for reconsideration revealed that the company official who filed the initial petition, intended the filing of the petition to be on behalf of all workers of Major League, Inc., including those working from other locations that reported to him at Major League's corporate headquarters in Jasper, Georgia. The company official identified two workers, located in McAllen, Texas and San Antonio, Texas, respectively, who were separated from employment with Major League between January and April 2004 along with the Major League employee located in Mount Airy, North Carolina.

Additional information was also obtained in the reconsideration investigation regarding the relationship between workers employed by Major League and the manufacture of apparel at a trade affected affiliated facility: Active Wear, Inc., Martinsville, Virginia (TA-W-54,339, certified on March 31, 2004). Major League workers were engaged in activities relating to the coordination of textile purchases and the shipping of textiles from Active Wear to Major League. Therefore, the workers were in support of the manufacture by Active Wear (scheduling and inventory control related to the textile purchases from Active Wear). Major League and Active Wear are affiliated by common ownership and are vertically integrated with regard to the production that took place at the Active Wear facility in Martinsville, Virginia. Two of the three shareholders of Major League owned 50% of the stock of Active Wear.

Section 222(a) of the Trade Act provides, in relevant part, for the certification of a group of workers when “a significant number or proportion of the worker in such workers' firm, or an appropriate subdivision of the firm, have become totally or partially separated, or are threatened to become totally or partially separated” and increased imports have contributed importantly to such separations. The Department's regulations at 29 C.F.R. 90.2 define the terms “firm,” “appropriate subdivision,” “group,” and “significant number or proportion of the workers.” While the Department usually identifies at least three workers at each facility location of a small firm before certifying a group of workers at that appropriate subdivision location, where three workers in the firm report to a single location of that firm, such as the firm's headquarters, the “group” may be found to consist of at least a total of three workers regardless of the work location. For example, a worker who travels between two or more locations of the firm or engages in telecommuting for all or part of the work week will not be excluded from consideration as part of a group of workers at an auxiliary facility merely because he or she does not report to work each day to the same facility and his or her paycheck is sent to a different location. Under these circumstances, it would not serve the purpose of the “significant number of separations” requirement to deny certification of a worker group when there are at least three separated workers at different locations who all report to headquarters even though there were not at least three separated workers at each of those locations.

Although workers employed by Major League are located in Mount Airy, North Carolina; McAllen, Texas; San Antonio, Texas; and Martinsville, Virginia, all of their activities are coordinated, and the workers are issued directives, from the company headquarters. Thus, the subject worker group of this petition consists of workers of the subject firm at these four locations as well as at the Jasper, Georgia company headquarters.

Information obtained in the investigation subsequent to the initial negative determination reveals that a significant number or proportion of workers of the subject worker group described above have been separated under section 222(a)(1) of the Trade Act of 1974, as amended, and the applicable regulations, as discussed above. In addition to the worker at Mount Airy, North Carolina, there were at least a total of two other workers at the McAllen, Texas and San Antonio, Texas locations who were totally or partially separated from employment by Major League between January and April 2004.

Increased imports of articles like or directly competitive with those produced at Active Wear, Inc., Martinsville, Virginia, a firm affiliated with and substantially beneficially owned by the same persons who own the subject firm, contributed importantly to the declines in sales or production and to the total or partial separation of workers at that firm, as determined by the Department in TA-W-54,339. Because the subject firm may be considered to be a single firm with Active Wear under the Department's definition of “firm,” and the subject group of Major League workers are an appropriate subdivision of that firm for trade adjustment assistance certification requirements because it operated in conjunction with Active Wear's Martinsville facility, increased imports also are found to have contributed importantly to the firm's sales or production and worker separations (and threatened separations) at the subject worker group.

On September 23, 2004, the petitioner filed an appeal with the U.S. Court of International Trade. By order dated October 29, 2004, the court has granted the Department leave to file this determination.

Conclusion

After careful review of the additional facts obtained on reconsideration and the entire record, I conclude that increased imports of like or directly competitive articles contributed importantly to the Major League/Active Wear firm and the total or partial separation of workers in the subject group. In accordance with the provisions of the Act, I make the following certification:

All workers of Major League, Inc., Mount Airy, North Carolina (TA-W-54,674), Major League, Inc., Jasper, Georgia (TA-W-54,674A), Major League, Inc., McAllen, Texas (TA-W-54,674B), Major League, Inc., San Antonio, Texas (TA-W-54,674C), and Major League, Inc., Martinsville, Virginia (TA-W-54,674D) who became totally or partially separated from employment on or after March 24, 2003 through two years of this certification, are eligible to apply for trade adjustment assistance under Section 223 of the Trade Act of 1974.

Signed in Washington, DC this 3rd day of November 2004.
Elliott S. Kushner,
Certifying Officer, Division of Trade Adjustment Assistance.

[FR Doc. E4-3143 Filed 11-10-04; 8:45 am]

BILLING CODE 4510-30-P